NATIONAL AERONAUTICS AND SPACE ADMINISTRATION

[Notice: 24-049]

NASA Advisory Council; Human Exploration and Operations Committee

AGENCY: National Aeronautics and Space Administration.

ACTION: Notice of meeting.

SUMMARY: In accordance with the Federal Advisory Committee Act, the National Aeronautics and Space Administration (NASA) announces a meeting of the Human Exploration and Operations Committee of the NASA Advisory Council (NAC). This Committee reports to the NAC.

DATES: Thursday, August 29, 2024, 9:30 a.m. to 3 p.m. All times are eastern time.

ADDRESSES: Public attendance will be virtual only. See dial-in and Webex information below under SUPPLEMENTARY INFORMATION.

FOR FURTHER INFORMATION CONTACT: Dr. Bette Siegel, Designated Federal Officer, Human Exploration and Operations Committee, NASA Headquarters, Washington, DC 20546, via email at bette.siegel@nasa.gov or (202) 358-2245.

SUPPLEMENTARY INFORMATION: As noted above, this meeting will be open to the public via Webex and telephonically. Webex connectivity information is provided below. For audio, when you join the Webex event, you may use your computer or provide your phone number to receive a call back, otherwise, call the U.S. toll conference number listed.

On August 29, the event address for attendees is: https://nasaenterprise.webex.com/nasaenterprise/j.php?MTID=mc17aa0761ae0718ade5a74ffe553e298.

The webinar number is 2824 562 6697 and the webinar password is Cu4qmHxM?65 . If needed, the U.S. toll conference number is 1-929-251-9612 or 1-415-527-5035 and access code is 2824 562 6697 and password is 28476496.

The agenda for the meeting includes the following topics:

—Exploration Systems Development Mission Directorate Status

—Moon to Mars

—Strategy and Architecture

It is imperative that these meeting be held on these days to accommodate the scheduling priorities of the key participants.

For more information, please visit https://www.nasa.gov/nac/heo-committee/.

Jamie M. Krauk,
Advisory Committee Management Officer, National Aeronautics and Space Administration.

[FR Doc. 2024-17917 Filed 8-9-24; 8:45 am]

BILLING CODE 7510-13-P